SMALL BUSINESS ADMINISTRATION

[Disaster Declaration # 10597 and # 10598]

New Mexico Disaster Number NM-00004

AGENCY: U.S. Small Business Administration.

ACTION: Amendment 1.

SUMMARY: This is an amendment of the Presidential declaration of a major disaster for the State of New Mexico (FEMA-1659-DR), dated August 30, 2006.

Incident: Severe Storms and Flooding.

Incident Period: July 26, 2006 and continuing.

Effective Date: September 8, 2006.

Physical Loan Application Deadline Date: October 30, 2006.

EIDL Loan Application Deadline Date: May 30, 2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of New Mexico, dated August 30, 2006 is hereby amended to include the following areas as adversely affected by the disaster:

Primary Counties:

Otero

Contiguous Counties:

New Mexico

Chaves, Eddy, Lincoln

Texas

Culberson, Hudspeth

All other information in the original declaration remains unchanged.

(Catalog of Federal Domestic Assistance Numbers 59002 and 59008)

Herbert L. Mitchell,
Associate Administrator for Disaster Assistance.

[FR Doc. E6-15369 Filed 9-15-06; 8:45 am]

BILLING CODE 8025-01-P